DEPARTMENT OF THE INTERIOR

Fish and Wildlife Service

[FWS-R8-ES-2010-N027; 80221-1112-0000-F2]

San Diego County Water Authority Natural Communities Conservation Program/Habitat Conservation Plan, San Diego and Riverside Counties, CA

AGENCY: Fish and Wildlife Service, Interior.

ACTION: Notice of availability of draft environmental impact report/environmental impact statement, receipt of incidental take permit application, and notice of public meetings.

SUMMARY: The San Diego County Water Authority (Water Authority/Applicant) has applied to us, the U.S. Fish and Wildlife Service (Service), for an incidental take permit under the Endangered Species Act of 1973, as amended (Act). The Applicant is requesting a permit to incidentally take 37 animal species and seeking assurances for 27 plant species (including 19 Federally listed species) during the term of the proposed 55-year permit. The permit is needed to authorize take of listed animal species due to construction, operations, and maintenance activities in the approximately 992,000-acre (401,450-hectare) Plan Area in western San Diego County and south-central Riverside County, California. We are requesting public comment on the Draft Water Authority Natural Communities Conservation Program/Habitat Conservation Plan (NCCP/HCP), Draft Implementing Agreement, and Draft Environmental Impact Report/Environmental Impact Statement (EIR/EIS).

We have prepared the Draft EIS, which is the Federal portion of the Draft EIR/EIS, to analyze the impacts of issuing an incidental take permit based on the Water Authority's proposed NCCP/HCP. The Draft EIR portion of the joint document was prepared by the Water Authority in compliance with the California Environmental Quality Act. The analyses provided in the Draft EIR/EIS are intended to inform the public of the proposed action (i.e., permit issuance), alternatives, and associated impacts; address public comments received during the scoping period for the Draft EIR/EIS; disclose the direct, indirect, and cumulative environmental effects of the proposed action and each of the alternatives; and indicate any irreversible commitment of resources that would result from implementation of the proposed action.

DATES: Please send written comments on or before June 2, 2010.

Two public meetings have been scheduled for the EIR, and we will accept comments for the EIS at these meetings. These public meetings will be held on the following dates:

1. March 17, 2010, 7 p.m. to 9 p.m., Escondido, CA.

2. March 18, 2010, 7 p.m. to 9 p.m., San Diego CA.

ADDRESSES: Please send written comments to Mr. Jim Bartel, Field Supervisor, U.S. Fish and Wildlife Service, Carlsbad Fish and Wildlife Office, 6010 Hidden Valley Road, Suite 101, Carlsbad, CA 92011. You may also submit comments by facsimile to (760) 431-5902.

Information and comments related specifically to the draft EIR and the California Environmental Quality Act should be submitted to Mr. Bill Tippets, San Diego County Water Authority, 4677 Overland Avenue, San Diego, CA 92123.

The public meeting locations are:

1. Escondido: Escondido City Hall, Mitchell Room, 201 North Broadway, Escondido, CA 92025.

2. Kearney Mesa: San Diego County Water Authority, 4677 Overland Avenue, San Diego, CA 92123.

FOR FURTHER INFORMATION CONTACT: Ms. Karen A. Goebel, Assistant Field Supervisor, at the Carlsbad Fish and Wildlife Office address above; telephone (760) 431-9440.

SUPPLEMENTARY INFORMATION:

Availability of Documents

Documents available for public review include the Water Authority's permit application, the Public Review Draft NCCP/HCP and Appendices, the accompanying Draft Implementing Agreement, and the Draft EIR/EIS.

For copies of the documents, please contact the Service by telephone at (760) 431-9440, or by letter to the Carlsbad Fish and Wildlife Office (see FOR FURTHER INFORMATION CONTACT). Copies of the Draft Water Authority NCCP/HCP, Draft EIR/EIS, and Draft Implementing Agreement also are available for public review, by appointment, during regular business hours, at the Carlsbad Fish and Wildlife Office or at the San Diego County Water Authority Office (4677 Overland Avenue, San Diego, California 92123). Copies are also available for viewing in select San Diego County and Riverside County public libraries (listed below) and at the Water Authority's Web site: http://www.sdcwa.org/.

1. Carlsbad Public Library—Reference Desk. 1775 Dove Lane, Carlsbad, CA 92009.

2. Chula Vista Public Library—Reference Desk. 365 F Street, Chula Vista, CA 91910.

3. Escondido Public Library—Reference Desk. 239 S. Kalmia Street, Escondido, CA 92025.

4. Lakeside Public Library—Reference Desk. 9839 Vine Street, Lakeside, CA 92040.

5. Mission Valley Branch Library—Reference Desk. 2123 Fento Parkway, San Diego, CA 92108.

6. San Diego Public Library—Reference Desk. 820 E Street, San Diego, CA 92101.

7. Temecula Public Library—Reference Desk. 30600 Pauba Road, Temecula, CA 92592.

Background

Section 9 of the Endangered Species Act of 1973, as amended (Act; 16 U.S.C. 1531 et seq.), and Federal regulations prohibit the “take” of fish and wildlife species Federally listed as endangered or threatened. Take of Federally listed fish or wildlife is defined under the Act as to harass, harm, pursue, hunt, shoot, wound, kill, trap, capture, or collect listed species, or attempt to engage in such conduct (16 U.S.C. 1538). “Harm” includes significant habitat modification or degradation that actually kills or injures listed wildlife by significantly impairing essential behavioral patterns, including breeding, feeding, and sheltering (50 CFR 17.3(c)). Under limited circumstances, we may issue permits to authorize incidental take, which is defined under the Act as take that is incidental to, and not the purpose of, otherwise lawful activities. Although take of plant species is not prohibited under the Act, and therefore cannot be authorized under an incidental take permit, plant species are proposed to be included on the permit in recognition of the conservation benefits provided to them under the NCCP/HCP. Regulations governing incidental take permits for threatened and endangered species are found in 50 CFR 17.32 and 17.22, respectively. All species included on the incidental take permit, if issued, would receive assurances under the Service's “No Surprises” regulation (50 CFR 17.22(b)(5) and 17.32(b)(5)).

The Applicant seeks incidental take authorization for 37 animal species and assurances for 27 plant species. Collectively the 64 listed and unlisted species are referred to as “Covered Species” by the NCCP/HCP and include 27 plant species (6 endangered, 5 threatened, and 16 unlisted); 5 invertebrate species (3 endangered and 2 unlisted); 2 amphibian species (1 endangered and 1 unlisted); 9 reptile species (all unlisted); 13 bird species (2 endangered, 1 threatened, and 10 unlisted); and 8 mammal species (1 endangered and 7 unlisted). The permit would provide take authorization for all animal species and assurances for all plant species identified by the NCCP/HCP as “Covered Species.” Take authorized for listed covered animal species would be effective upon permit issuance. For currently unlisted covered animal species, take authorization would become effective concurrent with listing, should the species be listed under the Act during the permit term.

The proposed permit would include the following eight Federally listed animal species: Stephens' kangaroo rat (Dipodomys stephensi; endangered), least Bell's vireo (Vireo bellii pusillus; endangered), coastal California gnatcatcher (Polioptila californica californica; threatented), southwestern willow flycatcher (Empidonax traillii extimus; endangered), arroyo toad (Anaxyrus (=Bufo) californicus; endangered), Quino checkerspot butterfly (Euphydryas editha quino; endangered), Riverside fairy shrimp (Streptocephalus woottoni; endangered), and San Diego fairy shrimp (Branchinecta sandiegoensis; endangered). The proposed permit would include assurances for the following 11 Federally listed plant species: Encinitas baccharis (Baccharis vanessae; threatened), Munz's onion (Allium munzii; endangered), Otay mesa mint (Pogogyne nudiuscula; endangered), Otay tarplant (Deinandra conjugens; threatened), San Diego ambrosia (Ambrosia pumila; endangered), San Diego button-celery (Eryngium aristulatum var. parishii; endangered), San Diego mesa mint (Pogogyne abramsii; endangered), San Diego thorn-mint (Acanthomintha ilicifolia; threatened), spreading navarretia (Navarretia fossalis; threatened), thread-leaved brodiaea (Brodiaea filifolia; threatened), and willowy monardella (Monardella viminea; endangered). See the Draft EIR/EIS and NCCP/HCP for information on unlisted species proposed for coverage under the permit.

The Draft Water Authority NCCP/HCP is intended to protect and sustain viable populations of native plant and animal species and their habitats in perpetuity through avoidance, minimization, and mitigation measures, including purchase of lands for permanent conservation and use of mitigation credits in mitigation banks previously established to address mitigation requirements associated with the proposed NCCP/HCP. The proposed NCCP/HCP and permit would accommodate the Water Authority's ongoing operations and maintenance requirements, future facility upgrades, and construction of new facilities that are needed to maintain a safe, reliable water source to its member agencies and the San Diego region.

The Water Authority's NCCP/HCP Plan Area encompasses approximately 992,000 acres (401,450 hectares) in western San Diego County and the vicinity of Lake Skinner in south-central Riverside County. The NCCP/HCP is intended to function independently of other HCPs within the San Diego region (e.g., San Diego Multiple Species Conservation Plan [MSCP] and its associated subarea plans, and Western Riverside County's Multiple Species Habitat Conservation Plan [MSHCP]).

As described in the Draft NCCP/HCP and the Draft EIR/EIS, the proposed NCCP/HCP would provide protection measures for species on Water Authority property and easements, in part by using available mitigation credits from mitigation banks previously established or in planning by the Water Authority as habitat management areas (HMAs). Covered activities, including planned and future projects, are estimated to impact up to 373 acres (151 hectares) of habitat for Covered Species that will require mitigation over the 55-year term of the Permit. When on-site mitigation for permanent impacts is not feasible, available mitigation credits would be debited from HMAs in accordance with in-kind mitigation ratios identified in the NCCP/HCP. The Water Authority has established five HMAs (including three upland properties and two wetland creation properties) totaling 1,920 acres (775 hectares) and has set up endowments for long-term management of these areas. Of these acres, approximately 700 acres (283 hectares) would be available as credits to mitigate for project impacts to Covered Species. Costs associated with the NCCP/HCP would be funded as a capital cost under the Water Authority Capital Improvement Program's (CIP) Mitigation Program or within individually approved CIP project budgets, and/or the annual operating budget of the Water Authority's Water Resources Department. The Water Authority estimates its long-term financial needs based on the CIP and has adopted a 2-year budget cycle to address short-term funding and expenditures. Also, contingency measures have been identified should the Water Authority's costs to implement, monitor, and report on the NCCP/HCP's measures exceed the budgeted amount. The Water Authority maintains a diverse revenue base and consistently evaluates existing and potential revenue sources to ensure that funding of all Water Authority projects is adequate.

The NCCP/HCP includes measures to avoid and minimize incidental take of the Covered Species, emphasizing project design modifications to protect Covered Species and their habitats. A monitoring and reporting plan would gauge the Plan's success based on achievement of biological goals and objectives and would ensure that conservation keeps pace with development. The NCCP/HCP also includes a management program, including adaptive management, which allows for changes in the conservation program if the biological species objectives are not met, or new information becomes available to improve the efficacy of the NCCP/HCP's conservation strategy.

Covered Activities would include developing new water transmission, storage, and flow management facilities, in addition to conducting operation and maintenance activities. These Covered Activities fall under five categories, including:

(1) Construction of Capital Improvement Program Facilities;

(2) Operation and Maintenance Activities;

(3) Right-of-Way Activities;

(4) Urgent Repair Procedures; and

(5) Emergency Repair Procedures.

National Environmental Policy Act Compliance

The Draft EIR/EIS analyzes three alternatives in addition to the proposed action (i.e., permit issuance based on the Draft Water Authority NCCP/HCP) described above. The other alternatives include a no-action (i.e., no permit) alternative, a larger species list alternative, and a reduced plan area alternative. Two other alternatives were considered during the planning process, but were not evaluated in the Draft EIS, because neither met the purpose and need of both the Water Authority and the Service; these alternatives involved a no-take alternative and an alternative requiring the Water Authority to participate in other existing regional HCPs.

Public Comments

The Service and Water Authority invite the public to comment on the Draft NCCP/HCP, Draft Implementing Agreement, and Draft EIR/EIS during a 90-day public comment period beginning the date of this notice. Please direct comments to the Service contact listed in the ADDRESSES section, and any questions to the Service contact listed in the FOR FURTHER INFORMATION CONTACT section. Before including your address, phone number, e-mail address, or other personal identifying information in your comment, you should be aware that your entire comment—including your personal identifying information—may be made publicly available at any time. While you can ask us in your comment to withhold your personal identifying information from public review, we cannot guarantee that we will be able to do so.

Reasonable Accommodation

The public meetings are physically accessible to people with disabilities. Please make requests for specific accommodations to Bill Tippetts, San Diego County Water Authority, at (858) 522-6784, at least 5 working days prior to the meeting date.

This notice is provided under section 10(a) of the Act and Service regulations for implementing the National Environmental Policy Act of 1969 (40 CFR 1506.6). We will evaluate the application, associated documents, and comments submitted thereon to prepare a Final EIS. A permit decision will be made no sooner than 30 days after the publication of the Final EIS and completion of the Record of Decision.

Alexandra Pitts,
Acting Deputy Regional Director, Pacific Southwest Region, Sacramento, California.

[FR Doc. 2010-4468 Filed 3-3-10; 8:45 am]

BILLING CODE 4310-55-P